DEPARTMENT OF TRANSPORTATION

Maritime Administration

[Docket Number: MARAD-2002-12977]

Requested Administrative Waiver of the Coastwise Trade Laws

AGENCY: Maritime Administration, Department of Transportation.

ACTION: Invitation for public comments on a requested administrative waiver of the Coastwise Trade Laws for the vessel STEPHANIE ANN.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR part 388 (65 FR 6905; February 11, 2000) that the issuance of the waiver will have an unduly adverse effect on a U.S.-vessel builder or a business that uses U.S.-flag vessels, a waiver will not be granted.

DATES: Submit comments on or before September 3, 2002.

ADDRESSES: Comments should refer to docket number MARAD-2002-12977. Written comments may be submitted by hand or by mail to the Docket Clerk, U.S. DOT Dockets, Room PL-401, Department of Transportation, 400 7th St., SW, Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Public Law 105-383 provides authority to the Secretary of Transportation to administratively waive the U.S.-build requirements of the Jones Act, and other statutes, for small commercial passenger vessels (no more than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR part 388.

Vessel Proposed for Waiver of the U.S.-build Requirement

(1) Name of vessel and owner for which waiver is requested.

Name of vessel: STEPHANIE ANN. Owner: Brian P. Sweeney.

(2) Size, capacity and tonnage of vessel. According to the applicant: “Length 70 ft., Beam 23 ft., Draft 10 ft., Gross Tonnage 85, Net Tonnage 68.”

(3) Intended use for vessel, including geographic region of intended operation and trade. According to the applicant: “Occasional charters along the west coast of the U.S.; we are expecting to do this a total of two (2) to four (4) weeks a year. Additionally, chartering in the Gulf of Mexico and along the Eastern Seaboard; we are expecting to do this one (1) or two (2) weeks every few years. Therefore we are requesting a waiver that is valid in all the U.S. waters. Intended operations will be mainly the west coast of the United States, from the Canadian border to the Mexican border, more specifically from the Seattle and the San Juan Islands south to San Diego Bay. Additionally, on occasion, once every few years, it is our intention that the boat will be in the Gulf of Mexico and the western seaboard. Therefore we are requesting a waiver that would be valid in all U.S. waters.”

(4) Date and Place of construction and (if applicable) rebuilding. Date of construction: 1998. Place of construction: Viareggio (Lucca), Italy.

(5) A statement on the impact this waiver will have on other commercial passenger vessel operators. According to the applicant: “Given that we are expecting to charter the vessel for only two to four weeks a year, twelve (12) or less passengers, interested in longer day, or coastal cruises, the approval of this application will not have an adverse effect on existing passenger operators. This lack of impact is further supported given the large geographic region for which we are requesting the waiver; since the boat will only be available for charter two (2) to four (4) weeks of the entire year it is very unlikely that a charter each will originate multiple times from any one particular port and thus should have no effect on other commercial passenger vessel operators.”

(6) A statement on the impact this waiver will have on U.S. shipyards. According to the applicant: “This waiver will have no adverse effect on U.S. Shipyards; it in fact has a very positive fiscal impact. In the last twelve (12) months approximately $250,000.00 has been spent on maintaining and upgrading the vessel all of which was done in U.S. (San Diego) Shipyards. All maintenance and additional work on the vessel will be carried out in U.S. Shipyards.”

Dated: July 30, 2002.
By order of the Maritime Administrator.
Joel C. Richard,
Secretary, Maritime Administration.

[FR Doc. 02-19592 Filed 8-1-02; 8:45 am]

BILLING CODE 4910-81-P